ENVIRONMENTAL PROTECTION AGENCY

[FRL-8095-5]

Temporary Changes to the EPA Docket Center Public Reading Room

AGENCY: Environmental Protection Agency (EPA).

ACTION: Notice.

SUMMARY: The EPA Docket Center (EPA/DC) Public Reading Room in Washington, DC will be temporarily inaccessible to the public due to construction starting on September 22, 2006. This notice provides information regarding submitting comments and accessing affected dockets during this period.

FOR FURTHER INFORMATION CONTACT: Minh-Hai Tran-Lam, Mail code 2822T, Office of Information Collection, Environmental Protection Agency, 1200 Pennsylvania Ave., NW., Washington, DC 20460; telephone number: (202) 566-1647; fax number: (202) 566-1639; e-mail address: Tran-Lam.Minh-Hai@epa.gov.

SUPPLEMENTARY INFORMATION: Dockets, Electronic Dockets, and Information Centers serve as the repository for information related to particular Agency actions. Regulations.gov serves as EPA's electronic public docket and on-line comment system. If you would like to submit an electronic comment or obtain docket materials for an EPA docket, please visit http://www.regulations.gov.

As of September 22, 2006, the EPA Docket Center (EPA/DC) Public Reading Room will be temporarily inaccessible to the public until November 6, 2006, due to construction. Public access to docket materials will still be provided. We strongly encourage you to visit the EPA Docket website at http://www.epa.gov/epahome/dockets.htm in order to receive the latest status concerning the Public Reading Room and public access to docket materials.

If you wish to obtain materials from a docket in the EPA/DC, please go first to http://www.regulations.gov and obtain electronic copies. If the materials are listed in the docket index but the documents themselves are not available in regulations.gov, please call (202) 566-1744 or e-mail the applicable Program Office Docket from the list provided below.

EPA Docket Center operations will still continue during this period. In addition to electronic access through regulations.gov, public inspection of docket materials will be available by appointment during this period. Appointments may be made by calling (202) 566-1744 or by e-mailing the appropriate Docket Office listed below.

If you wish to hand deliver comments during this period, you may drop them off between the hours of 8:30 a.m. and 4:30 p.m. eastern standard time (e.s.t.), Monday through Friday, excluding Federal holidays at the EPA Headquarters, Room 6146F in the EPA West Building located at 1301 Constitution Avenue, NW., Washington, DC. EPA visitors are required to show photographic identification and sign the EPA visitor log. After processing through the X-ray and magnetometer machines, visitors will be given an EPA/DC badge that must be visible at all times, and be escorted to Room 6146F to drop off comments.

• Office of Air and Radiation (OAR) Docket -- E-mail: a-and-r-Docket@epa.gov.

• Office of Enforcement and Compliance Assurance (OECA) Docket -- E-mail: docket.oeca@epa.gov.

• Office of Environmental Information (OEI) Docket (includes Toxics Release Inventory (TRI) Docket) -- E-mail: oei.docket@epa.gov.

• Office of Pollution Prevention and Toxics (OPPT) Docket -- E-mail: oppt.ncic@epa.gov.

• Office of Research and Development (ORD) Docket -- E-mail: ord.docket@epa.gov.

• Office of Solid Waste and Emergency Response (OSWER)

-- Resource Conservation and Recovery Act (RCRA) Docket -- E-mail: rcra-docket@epa.gov.

-- Superfund Docket -- E-mail: superfund.docket@epa.gov.

-- Underground Storage Tanks (UST) Docket -- E-mail: rcra-docket@epa.gov.

• Office of Water (OW) Docket -- E-mail: OW-Docket@epa.gov.

If you have any other questions concerning the temporary closing of the EPA/DC Public Reading Room, you may call (202) 566-1744 between the hours of 8:30 a.m. and 4:30 p.m. e.s.t.

List of Subjects

Environmental protection.

Dated: September 14, 2006.
Mark Luttner,
Director, Office of Information Collection, Office of Environmental Information.

[FR Doc. 06-7781 Filed 9-15-06; 12:58 pm]

BILLING CODE 6560-50-S